DEPARTMENT OF JUSTICE

Office of Justice Programs

[OJP (NIJ) Docket No. 1678]

Criminal Justice Restraints Standard, NIJ Standard-1001.00

AGENCY: National Institute of Justice.

ACTION: Notice.

SUMMARY: The National Institute of Justice (NIJ) announces publication of Criminal Justice Restraints Standard, NIJ Standard 1001.00. The document can be found here: https://ncjrs.gov/pdffiles1/nij/247988.pdf. Conformity assessment organizations are invited to review the document and provide any feedback to the point of contact listed below. This standard is planned to supersede NIJ Standard for Metallic Handcuffs, NIJ Standard 0307.01, found here: https://www.ncjrs.gov/pdffiles1/nij/082981.pdf. The effective date that this will occur will be given six months prior through a notice in the Federal Register. For more information about NIJ standards, please visit http://nij.gov/standards.

FOR FURTHER INFORMATION CONTACT: Brian Montgomery, by telephone at (202) 353-9786 [Note: this is not a toll-free telephone number], or by email at brian.montgomery@usdoj.gov.

William Sabol,
Acting Director, National Institute of Justice.

[FR Doc. 2014-27367 Filed 11-18-14; 8:45 am]

BILLING CODE 4410-18-P